OFFICE OF PERSONNEL MANAGEMENT

5 CFR Part 213

RIN 3206-AJ70

Excepted Service—Temporary Organizations

AGENCY: Office of Personnel Management.

ACTION: Final rule.

SUMMARY: The Office of Personnel Management (OPM) is issuing a final regulation amending the Governmentwide excepted service Schedule A authority for temporary organizations. This regulation revises the definition of the term “temporary organization” to comply with legislation. It also establishes criteria with which temporary organizations must comply if they wish to extend an employee's appointment.

DATES: Effective March 24, 2006.

FOR FURTHER INFORMATION CONTACT: Sharon K. Ginley at (202) 606-0960, FAX at (202) 606-2329, TDD at (202) 418-3134, or e-mail at sharon.ginley@opm.gov.

SUPPLEMENTARY INFORMATION: The Office of Personnel Management issued an interim regulation (68 FR 24605, May 8, 2003) to implement changes to the current Governmentwide excepted service Schedule A authority for temporary organizations. The interim regulation reflected the addition of a new subchapter IV to chapter 31 of title 5, United States Code. The new subchapter defined the term “temporary organization”; permitted the head of a temporary organization to make excepted service appointments of up to 3 years to fill positions in these organizations; permitted appointment extensions for no more than 2 years; and gave return rights to those who transfer or convert (with agency head approval) to these appointments from career or career-conditional appointments if certain conditions are met.

We received comments from two agencies supporting the change. One agency suggested adding information to 5 CFR part 352, to include reemployment rights for those in temporary organizations. Although we appreciate the value of making our regulations as comprehensive as possible, we note that the statutory provision regarding return rights at 5 U.S.C. 3161(g) is specific and clear, and we encourage individuals with questions about this topic to consult this provision for guidance. We are adopting the interim regulation as final with no change.

Regulatory Flexibility Act

I certify that these regulations will not have a significant economic impact on a substantial number of small entities because the regulations pertain only to Federal employees and agencies.

Executive Order 12866, Regulatory Review

This rule has been reviewed by the Office of Management and Budget in accordance with Executive Order 12866.

List of Subjects in 5 CFR Part 213

Government employees, Reporting and recordkeeping requirements.

Office of Personnel Management.
Linda M. Springer,
Director.

Accordingly, OPM is adopting the interim regulations (68 FR 24605) amending 5 CFR part 213, published on May 8, 2003 as final with no change.

[FR Doc. 06-1607 Filed 2-21-06; 8:45 am]

BILLING CODE 6325-39-M